DEPARTMENT OF HEALTH AND HUMAN SERVICES

Administration for Children and Families

Office of Child Support Enforcement; Statement of Organization, Functions, and Delegations of Authority

AGENCY: Administration for Children and Families, Department of Health and Human Services.

ACTION: Notice.

SUMMARY: Statement of Organizations, Functions, and Delegations of Authority. The Administration for Children and Families (ACF) has renamed the Office of Child Support Enforcement. This notice changes the name of the program from Office of Child Support Enforcement (OCSE) to Office of Child Support Services (OCSS).

FOR FURTHER INFORMATION CONTACT: Tanguler Gray, Office of Child Support Services, 330 C Street SW, Washington, DC 20201, 202-260-4090.

SUPPLEMENTARY INFORMATION: This notice amends Part K of the Statement of Organization, Functions, and Delegations of Authority of the Department of Health and Human Services, ACF, as follows: Chapter KF, Office of Child Support Services, as last amended 85 FR 78856-78859, December 1, 2020.

I. Amend Chapter KF, Office of Child Support Enforcement, to delete every instance of the program name, Office of Child Support Enforcement, in its entirety and replace it with Office of Child Support Services.

Mission: Change the name of the program to Office of Child Support Services.

KF.20 Functions. A. Input New Functions

II. Continuation of Policy. Except as inconsistent with this reorganization, all statements of policy and interpretations with respect to organizational components affected by this notice within ACF heretofore issued and in effect on this date of this reorganization are continued in full force and effect.

III. Delegation of Authority. All delegations and redelegations of authority made to officials and employees of affected organizational components will continue in them or their successors pending further redelegations, provided they are consistent with this reorganization.

IV. Funds, Personnel, and Equipment. Transfer of organizations and functions affected by this reorganization shall be accompanied in each instance by direct and support funds, positions, personnel, records, equipment, supplies, and other resources.

This reorganization will be effective upon date of publication.

Xavier Becerra,
Secretary, Department of Health and Human Services.

[FR Doc. 2023-11815 Filed 6-2-23; 8:45 am]

BILLING CODE 4184-01-P